DEPARTMENT OF TRANSPORTATION

Federal Aviation Administration

Office of Commercial Space Transportation; Notice of Availability and Request for Comment on the Draft Environmental Impact Statement for the SpaceX Texas Launch Site

AGENCY: DOT, Federal Aviation Administration (FAA), lead Federal agency; and National Aeronautics and Space Administration, National Park Service, U.S. Army White Sands Missile Range, U.S. Army Corps of Engineers, cooperating agencies.

ACTION: Notice of Availability, Notice of Public Comment Period, Notice of Public Hearing, and Request for Comment.

SUMMARY: In accordance with the National Environmental Policy Act of 1969, as amended (NEPA; 42 United States Code [U.S.C.] 4321 et seq.), Council on Environmental Quality NEPA implementing regulations (40 Code of Federal Regulations parts 1500 to 1508), and FAA Order 1050.1E, Change 1, the FAA, Office of Commercial Space Transportation (AST) is announcing the availability of and requesting comments on the Draft Environmental Impact Statement for the SpaceX Texas Launch Site (Draft EIS). This Draft EIS is also submitted for review pursuant to the following public law requirements: Section 4(f) of the Department of Transportation Act (49 U.S.C. Section 303); Section 106 of the National Historic Preservation Act (16 U.S.C. 470); Executive Order 11988, Floodplain Management; DOT Order 5650.2, Floodplain Management and Protection; Executive Order 11990, Protection of Wetlands; and DOT Order 5660.1A, Preservation of the Nation's Wetlands.

An electronic version of the Draft EIS is available on the FAA/AST Web site: http://www.faa.gov/about/office_org/headquarters_offices/ast/environmental/nepa_docs/review/documents_progress/spacex_texas_launch_site_environmental_impact_statement/. In addition, copies of the Draft EIS were sent to persons and agencies on the distribution list (found in Chapter 11 of the Draft EIS). A paper copy and an electronic version of the Draft EIS may be reviewed during regular business hours at the following Brownsville locations:

• Brownsville Public Library Main Branch, 2600 Central Blvd.

• Southmost Branch Library, 4320 Southmost Blvd.

• University of Texas at Brownsville, Oliveira Library, 80 Fort Brown St.

The FAA will hold a public hearing to solicit comments from the public concerning the scope and content of the Draft EIS.

• May 7, 2013, 5:00 p.m. to 8:00 p.m., at the International Technology, Education, and Commerce (ITEC) Center, located at 301 Mexico Boulevard, Suite G-1, Brownsville, TX 78520.

The public hearing will include a poster information session from 5:00 p.m. to 6:00 p.m., FAA presentation from 6:00 p.m. to 6:15 p.m., followed by a public statement period in which members of the public may provide up to a 3-minute statement. The FAA will transcribe all oral comments. All comments received during the comment period will be given equal weight and be taken into consideration in the preparation of the Final EIS.

DATES: The public comment period for the Draft EIS begins with the issuance of this Notice of Availability and last 45 days. The FAA encourages interested agencies, organizations, Native American tribes, and members of the public to submit comments concerning the scope and content of the Draft EIS by June 3, 2013. Comments on the Draft EIS should be as specific as possible and address the analysis of potential environmental impacts and the adequacy of the Proposed Action or merits of alternatives and the mitigation being considered. Reviewers should organize their participation so that it is meaningful and makes the agency aware of the reviewer's interests and concerns using quotations and other specific references to the text of the Draft EIS and related documents. Matters that could have been raised with specificity during the comment period on the Draft EIS may not be considered if they are raised for the first time later in the decision process. This commenting procedure is intended to ensure that substantive comments and concerns are made available to the FAA in a timely manner so that the FAA has an opportunity to address them.

ADDRESSES: Please submit comments or questions regarding the Draft EIS to Ms. Stacey M. Zee, FAA Environmental Specialist, SpaceX EIS c/o Cardno TEC Inc., 275 West Street, Suite 110, Annapolis, MD 21401. Comments may also be submitted via email to faaspacexeis@cardnotec.com or by fax to (410) 990-0455.

FOR FURTHER INFORMATION CONTACT: Ms. Stacey M. Zee, Environmental Specialist, Federal Aviation Administration, 800 Independence Avenue SW., Suite 325, Washington, DC 20591; email Stacey.Zee@faa.gov; or phone (202) 267-9305.

Additional Information

The Proposed Action is for the FAA to issue launch licenses and/or experimental permits to SpaceX that would allow SpaceX to launch the Falcon 9 and Falcon Heavy orbital vertical launch vehicles and a variety of reusable suborbital launch vehicles from a launch site on privately-owned property in Cameron County, Texas. As part of the Proposed Action, SpaceX plans to construct facilities, structures, and utility connections in order to support the launch of the Falcon 9 and Falcon Heavy launch vehicles. The facilities would be located in two areas: vertical launch area and control center area. The proposed vertical launch area site is currently undeveloped and is located directly adjacent to the eastern terminus of Texas State Highway 4 (Boca Chica Boulevard) and approximately 3 miles north of the Mexican border on the Gulf Coast. It is located approximately 5 miles south of Port Isabel and South Padre Island. At the vertical launch area, the new facilities required would include an integration and processing hangar, a launch pad and stand with its associated flame duct, a water tower, a retention basic for deluge water, propellant storage and handling areas, a workshop and office area, and a warehouse for parts storage.

The command and control functions for a launch are required to be conducted at a safe separation distance from the actual launch pad. The control center area would be located inland, approximately 2 miles west of the vertical launch area and would include control center buildings, payload processing facilities, a launch vehicle processing hangar, generators and diesel storage facilities, and a satellite fuels storage facility. All facilities would be constructed through private funding, on currently undeveloped private property that would be purchased or leased by SpaceX. In addition, new underground power lines would be installed in the State Highway 4 Right-of-Way from the control center area to the vertical launch area.

Operations would consist of up to 12 launches per year with a maximum of two Falcon Heavy launches. All Falcon 9 and Falcon Heavy launches would be expected to have commercial payloads, including satellites or experimental payloads. In addition to standard payloads, the Falcon 9 and Falcon Heavy may also carry a capsule, such as the SpaceX Dragon capsule. All launch trajectories would be to the east over the Gulf of Mexico.

Alternatives under consideration include the Proposed Action and the No Action Alternative. Under the No Action Alternative, the FAA would not issue a license or experimental permit to SpaceX. The Draft EIS evaluates the direct, indirect, and cumulative environmental impacts of the Proposed Action and No Action Alternative on several environmental impact categories, including compatible land use (including farmlands and coastal resources); Section 4(f) properties; noise; visual resources and light emissions; historical, architectural, archaeological, and cultural resources; air quality; water resources (including wetlands, floodplains, surface waters, groundwater, and wild and scenic rivers); biological resources (including fish, wildlife, and plants); hazardous materials, pollution prevention, and solid waste; socioeconomics, environmental justice, and children's environmental health risks and safety risks; energy supply and natural resources; and secondary (induced) impacts. Additional resources were also considered including airspace, health and safety, and ground traffic and transportation. The Proposed Action would include a significant encroachment on floodplains per DOT Order 5650.2, Floodplain Management Protection.

Issued in Washington, DC, on April 11, 2013.
Daniel Murray,
Deputy Manager, Space Transportation Development Division.

[FR Doc. 2013-09161 Filed 4-18-13; 8:45 am]

BILLING CODE 4910-13-P